DEPARTMENT OF ENERGY

Federal Energy Regulatory Commission

Combined Notice of Filings #1

Take notice that the Commission received the following electric corporate filings:

Docket Numbers: EC16-139-000.

Applicants: Slate Creek Wind Project, LLC.

Description: Application for Authorization under Section 203 of the FPA and Request for Waivers, Confidential Treatment, and Expedited Action of Slate Creek Wind Project, LLC.

Filed Date: 6/30/16.

Accession Number: 20160630-5426.

Comments Due: 5 p.m. ET 7/21/16.

Docket Numbers: EC16-140-000.

Applicants: Duquesne Light Company, Duquesne Power, LLC, Three Rivers Utility Holdings, LLC.

Description: Application for Authorization under Section 203 of the Federal Power Act and Request for Expedited Action and Confidential Treatment of Duquesne Light Company, et al.

Filed Date: 7/1/16.

Accession Number: 20160701-5320.

Comments Due: 5 p.m. ET 7/22/16.

Take notice that the Commission received the following electric rate filings:

Docket Numbers: ER10-1276-006; ER10-1292-005; ER10-1287-005; ER10-1303-005; ER10-1319-007; ER10-1353-007.

Applicants: Consumers Energy Company, CMS Energy Resource Management Company, Grayling Generation Station Limited Partnership, Genesee Power Station Limited Partnership, CMS Generation Michigan Power, LLC, Dearborn Industrial Generation, L.L.C.

Description: Amendment to May 2, 2016 Notice of Non-Material Change in Status of Consumer Energy Company, et al.

Filed Date: 6/30/16.

Accession Number: 20160630-5430.

Comments Due: 5 p.m. ET 7/21/16.

Docket Numbers: ER10-2739-013; ER13-1430-005; ER10-2743-008; ER13-1561-005; ER10-2755-011; ER16-1652-001; ER10-2751-008.

Applicants: LS Power Marketing, LLC, Arlington Valley Solar Energy II, LLC, Bluegrass Generation Company, L.L.C., Centinela Solar Energy, LLC, Las Vegas Power Company, LLC, LifeEnergy LLC, Renaissance Power, L.L.C.

Description: Market Power Update for the Southwest Region of LS Southwest MBR Sellers.

Filed Date: 6/30/16.

Accession Number: 20160630-5435.

Comments Due: 5 p.m. ET 8/29/16.

Docket Numbers: ER16-1672-000.

Applicants: Chaves County Solar, LLC.

Description: Amendment to May 11, 2016 Chaves County Solar, LLC tariff filing.

Filed Date: 6/30/16.

Accession Number: 20160630-5431.

Comments Due: 5 p.m. ET 7/21/16.

Docket Numbers: ER16-2130-000.

Applicants: Public Service Company of New Mexico.

Description: Compliance filing: Compliance Filing to Correct eTariff Record to be effective 10/1/2015.

Filed Date: 7/1/16.

Accession Number: 20160701-5282.

Comments Due: 5 p.m. ET 7/22/16.

Docket Numbers: ER16-2131-000.

Applicants: Transource West Virginia, LLC.

Description: Application of Transource West Virginia, LLC regarding regulatory asset.

Filed Date: 7/1/16.

Accession Number: 20160701-5325.

Comments Due: 5 p.m. ET 7/22/16.

Docket Numbers: ER16-2132-000.

Applicants: Midcontinent Independent System Operator, Inc.

Description: Section 205(d) Rate Filing: 2016-07-05_SA 2301 MidAmerican-MidAmerican 3rd Rev GIA (R34/R65/J191) to be effective 7/6/2016.

Filed Date: 7/5/16.

Accession Number: 20160705-5065.

Comments Due: 5 p.m. ET 7/26/16.

Take notice that the Commission received the following public utility holding company filings:

Docket Numbers: PH16-9-000.

Applicants: Spire Inc.

Description: Spire Inc. submits FERC 65-A Notice of Non Material Change in Facts of Exemption Notification.

Filed Date: 7/1/16.

Accession Number: 20160701-5326.

Comments Due: 5 p.m. ET 7/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2016.
Nathaniel J. Davis, Sr.,
Deputy Secretary.

[FR Doc. 2016-16340 Filed 7-8-16; 8:45 am]

BILLING CODE 6717-01-P